DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by January 26, 2005.

Title and OMB number: Defense Logistics Agency Readership Survey for Loglines Magazine; OMB Control Number 0704-TBD.

Type of request: New.

Number of respondents: 4,200.

Responses per respondent: 1.

Annual responses: 4,200.

Average burden per response: 10 minutes.

Annual burden hours: 546.

Needs and uses: The Defense Logistics Agency (DLA) is evaluating its public affairs practices to include requesting feedback from readers of its publications. DLA needs to learn how we can better serve our readers and how we are already succeeding. The survey information will be used by DLA to help us improve the customer focus of our publications.

Affected public: Individuals or households; Business or other for-profit; Not-for-profit institutions; Federal government; State, local, or tribal government.

Frequency: On occasion.

Respondent's obligation: Voluntary.

OMB desk officer: Mr. Lewis Oleinick.

Written comments and recommendations on the proposed information collection should be sent to Mr. Oleinick at the Office of Management and Budget, Desk Officer for DoD, Room 10236, New Executive Office Building, Washington, DC 20503.

DOD clearance officer: Ms. Patricia Toppings.

Written requests for copies of the information collection proposal should be sent to Ms. Toppings, WHS/ESCD/Information Management Division, 1225 South Clark Street, Suite 504, Arlington, VA 22202-4326.

Dated: December 17, 2004.
Patricia L. Toppings,
Alternate OSD Federal Register, Liaison Officer, Department of Defense.

[FR Doc. 04-28125 Filed 12-23-04; 8:45 am]

BILLING CODE 5001-06-M